ENVIRONMENTAL PROTECTION AGENCY

40 CFR Part 721

[EPA-HQ-OPPT-2023-0245; FRL-10985-03-OCSPP]

RIN 2070-AB27

Significant New Use Rules on Certain Chemical Substances (23-2.5e); Extension of the Comment Period

AGENCY: Environmental Protection Agency (EPA).

ACTION: Proposed rule; extension of the comment period.

SUMMARY: The Environmental Protection Agency (EPA) is extending the comment period for the proposed rule entitled “Significant New Use Rules on Certain Chemical Substances (23-2.5e)” that published in the Federal Register on June 20, 2023, with an established public comment period that was scheduled to end on July 20, 2023. In response to requests for additional time to develop and submit comments on the proposed rule, EPA is extending the comment period for an additional 30 days, i.e., from July 20, 2023, to August 19, 2023.

DATES: The comment period for the proposed rule that published on June 20, 2023, at 88 FR 39804 (FRL-10985-01-OCSPP), is now extended. Comments must be received on or before August 19, 2023.

ADDRESSES: Submit your comments, identified by docket identification (ID) number EPA-HQ-OPPT-2023-0245, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: William Wysong, New Chemicals Division (7405M), Office of Pollution Prevention and Toxics, Environmental Protection Agency, 1200 Pennsylvania Ave. NW, Washington, DC 20460-0001; telephone number: (202) 564-4163; email address: wysong.william@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register of June 20, 2023 (88 FR 39804) (FRL-10985-01-OCSPP) for 30 days, from July 20, 2023, to August 19, 2023.

This extension is in response to requests that EPA received which asked for additional time to develop and submit comments on the proposed rule. After considering several factors, EPA believes it is appropriate to extend the comment period for 30 days to give stakeholders additional time to review the documents and prepare comments. As discussed in the Federal Register of June 20, 2023 (88 FR 39804 (FRL-10985-01-OCSPP)), EPA has decided that the intent of TSCA section 5(a)(1)(B) is best served by designating a use as a significant new use as of the date of publication of the proposed rule rather than as of the effective date of the final rule. If you have questions, consult the technical person listed under FOR FURTHER INFORMATION CONTACT.

List of Subjects in 40 CFR Part 721

Environmental protection, Chemicals, Hazardous materials, Reporting and recordkeeping requirements.

Dated: July 17, 2023.
Denise Keehner,
Director, Office of Pollution Prevention and Toxics.

[FR Doc. 2023-15388 Filed 7-19-23; 8:45 am]

BILLING CODE 6560-50-P